DEPARTMENT OF ENERGY

Federal Energy Regulatory Commission

Combined Notice of Filings No. 1

December 16, 2009.

Take notice that the Commission received the following electric rate filings:

Docket Numbers: ER97-4257-014.

Applicants: Mid-Power Service Corporation.

Description: Mid-Power Service Corporation submits Amended and Restated Application for authorization to make wholesale sales of energy and capacity at negotiated market-based rates.

Filed Date: 12/14/2009.

Accession Number: 20091216-0023.

Comment Date: 5 p.m. Eastern Time on Monday, January 04, 2010.

Docket Numbers: ER98-564-012; ER09-328-002.

Applicants: TransCanada Power Marketing Ltd.; TransCanada Energy Sales Ltd.

Description: TransCanada Power Marketing Ltd. et al. submits application requesting that the Commission make a finding that they each qualify as a Category 1 Seller et al.

Filed Date: 12/11/2009.

Accession Number: 20091214-0132.

Comment Date: 5 p.m. Eastern Time on Monday, January 04, 2010.

Docket Numbers: ER01-48-016.

Applicants: Powerex Corp.

Description: Powerex Corp submits notice of change in status.

Filed Date: 12/11/2009.

Accession Number: 20091214-0141.

Comment Date: 5 p.m. Eastern Time on Monday, January 04, 2010.

Docket Numbers: ER05-757-004.

Applicants: Victoria International LTD.

Description: Victoria International LTD submits Second Substitute First Revised Sheet 1 et al. to FERC Electric Tariff, Original Volume 1.

Filed Date: 12/11/2009.

Accession Number: 20091216-0027.

Comment Date: 5 p.m. Eastern Time on Monday, January 04, 2010.

Docket Numbers: ER06-1071-001.

Applicants: Kuehne Chemical Company, Inc.

Description: Kuehne Chemical Company, Inc. submits the amended pages for the Amended Market Power Analysis.

Filed Date: 12/14/2009.

Accession Number: 20091216-0024.

Comment Date: 5 p.m. Eastern Time on Monday, January 04, 2010.

Docket Numbers: ER09-1114-002; ER09-1115-002.

Applicants: RRI Energy Services, Inc.; RRI Energy Solutions East, LLC.

Description: RRI Energy Services, Inc. et al. submits request that FERC confirm that each is a Category 1 Seller in the Southwest Power Pool and Northwest regions.

Filed Date: 12/14/2009.

Accession Number: 20091214-0138.

Comment Date: 5 p.m. Eastern Time on Monday, January 04, 2010.

Docket Numbers: ER09-1762-001.

Applicants: Westar Energy, Inc.

Description: Westar Energy submits its Full Requirements Electric Service Rate Schedule and Electric Service Agreement.

Filed Date: 12/11/2009.

Accession Number: 20091214-0005.

Comment Date: 5 p.m. Eastern Time on Monday, January 04, 2010.

Docket Numbers: ER10-44-001.

Applicants: Ameren Services Company.

Description: Illinois Power Company submits revised version of the Transmission Construction Agreement reflecting minor changes to the Agreement agreed to by Ameren Service and Prairie State.

Filed Date: 12/11/2009.

Accession Number: 20091214-0143.

Comment Date: 5 p.m. Eastern Time on Monday, January 04, 2010.

Docket Numbers: ER10-139-002.

Applicants: Atlantic Path 15, LLC.

Description: Atlantic Path 15, LLC submits Second Substitute Fifth Revised Sheet No. 16 to FERC Electric Tariff First Revised Volume No 1.

Filed Date: 12/14/2009.

Accession Number: 20091215-0046.

Comment Date: 5 p.m. Eastern Time on Monday, January 04, 2010.

Docket Numbers: ER10-226-001.

Applicants: Clean Currents, L.L.C.

Description: Clean Currents, LLC submits Petition for Acceptance of Rate Schedule, Waivers and Blanket Authority.

Filed Date: 12/11/2009.

Accession Number: 20091214-0004.

Comment Date: 5 p.m. Eastern Time on Monday, January 04, 2010.

Docket Numbers: ER10-236-003.

Applicants: Ohms Energy Company, LLC.

Description: OHMS Energy Company, LLC submits Third Amended Petition for Acceptance of Initial Tariff, Waivers and Blanket Authority.

Filed Date: 12/14/2009.

Accession Number: 20091215-0042.

Comment Date: 5 p.m. Eastern Time on Monday, January 04, 2010.

Docket Numbers: ER10-236-004.

Applicants: Ohms Energy Company, LLC.

Description: OHMS Energy Company, LLC submits Fourth Amended Petition for Acceptance of Initial Tariff, Waivers and Blanket Authority.

Filed Date: 12/14/2009.

Accession Number: 20091215-0039.

Comment Date: 5 p.m. Eastern Time on Monday, January 04, 2010.

Docket Numbers: ER10-41-001.

Applicants: NorthWestern Corporation.

Description: NorthWestern Corporation, South Dakota submits an executed Electric Service Agreement Emergency-Type Service with East River Electric Power Cooperative, Inc. etc.

Filed Date: 12/14/2009.

Accession Number: 20091215-0038.

Comment Date: 5 p.m. Eastern Time on Monday, January 04, 2010.

Docket Numbers: ER10-409-000.

Applicants: Covanta Energy Marketing LLC.

Description: Covanta Energy Marketing LLC request acceptance of their initial FERC Electric Tariff, Original Volume 1 etc.

Filed Date: 12/11/2009.

Accession Number: 20091214-0136.

Comment Date: 5 p.m. Eastern Time on Monday, January 04, 2010.

Docket Numbers: ER10-410-000.

Applicants: Covanta Power LLC.

Description: Covanta Power, LLC submits acceptance of its initial FERC Electric Tariff, Original Volume 1 et al.

Filed Date: 12/11/2009.

Accession Number: 20091214-0135.

Comment Date: 5 p.m. Eastern Time on Monday, January 04, 2010.

Docket Numbers: ER10-414-000.

Applicants: PacifiCorp.

Description: PacifiCorp submits Installation, Operation, Maintenance and Ownership of Certain Metering Facilities Agreement with Southern California Public Power Authority et al.

Filed Date: 12/11/2009.

Accession Number: 20091214-0134.

Comment Date: 5 p.m. Eastern Time on Monday, January 04, 2010.

Docket Numbers: ER10-415-000.

Applicants: Southwest Power Pool, Inc.

Description: Southwest Power Pool, Inc. submits an executed Meter Agent Services Agreement between Kansas Power Pool etc.

Filed Date: 12/11/2009.

Accession Number: 20091214-0137.

Comment Date: 5 p.m. Eastern Time on Monday, January 04, 2010.

Docket Numbers: ER10-416-000.

Applicants: New York State Reliability Council, L.L.C.

Description: New York State Reliability Council, L.L.C.'s Submission to FERC Regarding the Revision of the Installed Capacity Requirement for the New York Control Area.

Filed Date: 12/14/2009.

Accession Number: 20091214-5145.

Comment Date: 5 p.m. Eastern Time on Monday, January 04, 2010.

Docket Numbers: ER10-417-000.

Applicants: PJM Interconnection, L.L.C.

Description: PJM Interconnection, L.L.C. submits executed Interconnection Service Agreements entered into among PJM et al.

Filed Date: 12/14/2009.

Accession Number: 20091215-0043.

Comment Date: 5 p.m. Eastern Time on Monday, January 04, 2010.

Docket Numbers: ER10-418-000.

Applicants: Deseret Generation & Transmission Co-op.

Description: Deseret Generation & Transportation Co-operative, Inc. submits its proposed Wholesale Power Contract Rate Schedule A 2009 Supplemental Rebate etc.

Filed Date: 12/14/2009.

Accession Number: 20091215-0041.

Comment Date: 5 p.m. Eastern Time on Monday, January 04, 2010.

Docket Numbers: ER10-419-000.

Applicants: ISO New England Inc. & New England Power Pool.

Description: ISO New England Inc. et al. submit revisions to the Forward Capacity Market rules etc.

Filed Date: 12/14/2009.

Accession Number: 20091215-0040.

Comment Date: 5 p.m. Eastern Time on Monday, January 04, 2010.

Docket Numbers: ER10-420-000.

Applicants: Crystal Lake Wind II, LLC.

Description: Crystal Lake Wind II, LLC submits Common Facilities Agreement between Crystal Lake Wind III, LLC et al. dated 12/10/09 designated as Electric Rate Schedule FERC No 1.

Filed Date: 12/14/2009.

Accession Number: 20091215-0036.

Comment Date: 5 p.m. Eastern Time on Monday, January 04, 2010.

Docket Numbers: ER10-421-000.

Applicants: Crystal Lake Wind, LLC.

Description: Crystal Lake Wind, LLC submits Amended and Restated Shared Facilities Agreement between Crystal Lake Wind II, LLC et al.

Filed Date: 12/14/2009.

Accession Number: 20091215-0035.

Comment Date: 5 p.m. Eastern Time on Monday, January 04, 2010.

Docket Numbers: ER10-424-000.

Applicants: New York Independent System Operator, Inc.

Description: Request of the New York Independent System Operator, Inc. for Additional Waivers of Open Access Time Information System Regulations.

Filed Date: 12/15/2009.

Accession Number: 20091215-5137.

Comment Date: 5 p.m. Eastern Time on Tuesday, January 05, 2010.

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-30583 Filed 12-23-09; 8:45 am]

BILLING CODE 6717-01-P